DEPARTMENT OF TRANSPORTATION

Federal Aviation Administration

Agency Information Collection Activities: Requests for Comments; Clearance of a Renewed Approval of Information Collection: QSA Customer Feedback Report

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on August 15, 2018. The collection involves the voluntary submission of responses to survey questions. The information is collected from holders of FAA production approvals and selected suppliers and provides them an opportunity to offer their input on how well the agency is performing the administration and conduct of the Aircraft Certification Systems Quality System Audit (QSA). The information to be collected will be used to promote continuous improvement initiatives and industry dialog in the FAA oversight process.

DATES: Written comments should be submitted by November 23, 2018.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall at (940) 594-5913, or by email at: Barbara.L.Hall@faa.gov.

SUPPLEMENTARY INFORMATION: OMB Control Number: 2120-0605.

Title: QSA Customer Feedback Report.

Form Numbers: FAA Form 8100-7.

Type of Review: Renewal of an information collection.

Background: The Federal Register Notice with a 60-day comment period soliciting comments on the following collection of information was published on August 15, 2018 (83 FR 40619). The feedback information collection is voluntary and is collected by way of a self-addressed stamped envelope. It is used by local field offices, manufacturing inspection offices and the surveillance and oversight policy section of AIR-600 to improve the administration and conduct of the QSA at the local and national levels. Improvements to FAA Order 8120.23, Certificate Management of Production Approval Holders, have been and will continue to be included as policy evolves as a direct benefit of the on-going collection of that feedback information. It will also be used for reporting as a Customer Service Standard in fulfillment of Executive Order 12862, Setting Customer Service Standards, dated September 11, 1993.

Respondents: There are approximately 190 holders of FAA production approvals responding annually. This metric was updated from the 60 day FRN as a wider sampling was taken to more accurately validate and maintain consistency with supporting statement responses. Audit frequencies change from year to year as due dates range from 12 to 48 months. Accordingly, the sampling period was adjusted to capture the most recent three year period that full data was readily available.

Frequency: Feedback information is collected about thirty days after conclusion of the oversight activity. The feedback provided is voluntarily submitted by the audited facility on occasion which is predicated on their audit due date frequency.

Estimated Average Burden per Response: 30 Minutes.

Estimated Total Annual Burden: 95 hours.

Issued in Washington, DC on October 18, 2018.
Barbara Hall,
FAA Information Collection Clearance Officer, Performance, Policy, and Records Management Branch, ASP-110.

[FR Doc. 2018-23218 Filed 10-23-18; 8:45 am]

BILLING CODE 4910-13-P